ENVIRONMENTAL PROTECTION AGENCY

[FRL-7776-7]

Gulf of Mexico Program Citizens Advisory Committee Meeting

AGENCY: Environmental Protection Agency (EPA).

ACTION: Notice of meeting.

SUMMARY: Under the Federal Advisory Committee Act (Public Law 92-463), EPA gives notice of a meeting of the Gulf of Mexico Program (GMP) Citizens Advisory Committee (CAC).

DATES: The meeting will be held on Thursday, July 15, 2004, from 8:30 a.m. to 4:15 p.m.

ADDRESSES: The meeting will be held at the Embassy Suites, 315 Julia Street, New Orleans, LA 70130 (504-525-1993).

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: EPA's Non-point Source Pollution Program; Master Farmer Program in Louisiana; Davis Pond Freshwater Diversion Project; and the Chesapeake Bay Citizens Advisory Committee—Building Support.

The meeting is open to the public.

Dated: June 14, 2004.
Gloria D. Car,
Designated Federal Officer.

[FR Doc. 04-14089 Filed 6-21-04; 8:45 am]

BILLING CODE 6560-50-M